DEPARTMENT OF STATE

[Public Notice 5440]

International Joint Commission; Notice of Public Comment Period; International Lake Ontario-St. Lawrence River Study

The International Joint Commission will hold a 60-day public comment period on the report of its International Lake Ontario-St. Lawrence River Study Board, which was released on May 31, 2006.

The Study Board report presents the Commission with options for regulating the outflows from Lake Ontario through the international hydropower project at Cornwall, Ontario and Massena, New York. The five-year study improves the understanding of how regulation affects the environment, recreational boating, flooding, shoreline erosion, navigation, hydropower production and municipal and industrial water uses from Niagara Falls, New York and Ontario to Trois-Riviéres, Quebec.

The Commission will consider changes to the current regulation plan, Plan 1958-D, and to its Orders of Approval for regulation of Lake Ontario outflows.

The public is invited to provide comments on the Study Board report, and any other relevant matters, to assist the Commission in its deliberations. Copies of the Study Board report are available from the Commission at the addresses below, or online from http://www.ijc.org/en/activities/losl/index.php.

Comments, which must be received by July 31, 2006, can be submitted online at http://www.ijc.org/en/activities/losl/index.php or sent by letter, fax or email to either address below:

U.S. Section Secretary, International Joint Commission, 1250 23rd Street NW., Suite 100, Washington, DC 20440. Tel: (202) 736-9024. Fax: (202) 467-0746. Commission@washington.ijc.org.

Canadian Section Secretary, International Joint Commission, 234 Laurier Avenue West, 22nd Floor, Ottawa, ON K1P 6K6. Tel: (613) 995-0088. Fax: (613) 993-5583. Commission@ottawa.ijc.org.

Once the Commission has adequately considered the Study Board report, public comment and any other relevant information, it will release a “preliminary decision” on regulation of Lake Ontario outflows for public comment. The Commission will examine increasing the benefits of regulation consistent with its responsibility under the Boundary Waters Treaty to ensure suitable and adequate protection of all interests that could be injured as a result of the activities that it approves.

The Commission will also hold public hearings, and consult with the governments of Canada and the United States to seek their concurrence, before making a decision whether to change its Orders of Approval or the current regulation plan. The times and locations will be announced.

Comments provided in writing or orally will become part of a public record that may be posted on the IJC's Web site or otherwise made available to the public. To protect the privacy of any person submitting comment, the IJC will remove the following identifying information from the incoming communication before making the comment available to the public: e-mail address, street address, post office box, zip code, postal code, telephone number and fax number. The following identifying information will remain part of the record that is made available to the public: Name, organizational affiliation, city, and state/province.

For more information, contact Frank Bevacqua (202) 736-9024; bevacquaf@washington.ijc.org.

Dated: June 5, 2006.
Elizabeth C. Bourget,
Secretary, U.S. Section International Joint Commission Department of State.

[FR Doc. E6-9132 Filed 6-9-06; 8:45 am]

BILLING CODE 4710-14-P